FEDERAL RETIREMENT THRIFT INVESTMENT BOARD

Sunshine Act Meeting

TIME AND DATE: 8:30 a.m. November 17, 2014.

PLACE: 10th Floor Board Meeting Room, 77 K Street NE., Washington, DC 20002.

STATUS: Parts will be open to the public and parts closed to the public.

MATTERS TO BE CONSIDERED:

Parts Open to the Public

1. Approval of the Minutes of the October 27, 2014 Board Member Meeting

2. Thrift Savings Plan Reports

a. Monthly Participant Activity Report

b. Monthly Investment Policy Report

c. Legislative Report

3. Quarterly Metrics Report

4. Mid-Year Financial Audit

5. Updates

a. Human Capital Plan

b. Mutual Fund Window

Parts Closed to the Public

1. Personnel

CONTACT PERSON FOR MORE INFORMATION: Kimberly Weaver, Director, Office of External Affairs, (202) 942-1640.

Dated: November 7, 2014.
Megan Grumbine,
Deputy General Counsel, Federal Retirement Thrift Investment Board.

[FR Doc. 2014-26899 Filed 11-7-14; 4:15 pm]

BILLING CODE 6760-01-P